DEPARTMENT OF THE INTERIOR

Fish and Wildlife Service

[FWS-HQ-IA-2015-N173; FXIA16710900000-156-FF09A30000]

Endangered Species; Receipt of Applications for Permit

AGENCY: Fish and Wildlife Service, Interior.

ACTION: Notice of receipt of applications for permit.

SUMMARY: We, the U.S. Fish and Wildlife Service, invite the public to comment on the following applications to conduct certain activities with endangered species. With some exceptions, the Endangered Species Act (ESA) prohibit activities with listed species unless Federal authorization is acquired that allows such activities.

DATES: We must receive comments or requests for documents on or before October 5, 2015.

ADDRESSES: Monica Thomas, U.S. Fish and Wildlife Service, Division of Management Authority, Branch of Permits, MS: IA, 5275 Leesburg Pike, Falls Church, VA 22041; fax (703) 358-2281; or email DMAFR@fws.gov.

FOR FURTHER INFORMATION CONTACT: Monica Thomas, (703) 358-2104 (telephone); (703) 358-2281 (fax); DMAFR@fws.gov (email).

SUPPLEMENTARY INFORMATION:

I. Public Comment Procedures

A. How do I request copies of applications or comment on submitted applications?

Send your request for copies of applications or comments and materials concerning any of the applications to the contact listed under ADDRESSES. Please include the Federal Register notice publication date, the PRT-number, and the name of the applicant in your request or submission. We will not consider requests or comments sent to an email or address not listed under ADDRESSES. If you provide an email address in your request for copies of applications, we will attempt to respond to your request electronically.

Please make your requests or comments as specific as possible. Please confine your comments to issues for which we seek comments in this notice, and explain the basis for your comments. Include sufficient information with your comments to allow us to authenticate any scientific or commercial data you include.

The comments and recommendations that will be most useful and likely to influence agency decisions are: (1) Those supported by quantitative information or studies; and (2) Those that include citations to, and analyses of, the applicable laws and regulations. We will not consider or include in our administrative record comments we receive after the close of the comment period (see DATES) or comments delivered to an address other than those listed above (see ADDRESSES).

B. May I review comments submitted by others?

Comments, including names and street addresses of respondents, will be available for public review at the street address listed under ADDRESSES. The public may review documents and other information applicants have sent in support of the application unless our allowing viewing would violate the Privacy Act or Freedom of Information Act. Before including your address, phone number, email address, or other personal identifying information in your comment, you should be aware that your entire comment—including your personal identifying information—may be made publicly available at any time. While you can ask us in your comment to withhold your personal identifying information from public review, we cannot guarantee that we will be able to do so.

II. Background

To help us carry out our conservation responsibilities for affected species, and in consideration of section 10(a)(1)(A) of the Endangered Species Act of 1973, as amended (16 U.S.C. 1531 et seq.), along with Executive Order 13576, “Delivering an Efficient, Effective, and Accountable Government,” and the President's Memorandum for the Heads of Executive Departments and Agencies of January 21, 2009—Transparency and Open Government (74 FR 4685; January 26, 2009), which call on all Federal agencies to promote openness and transparency in Government by disclosing information to the public, we invite public comment on these permit applications before final action is taken.

III. Permit Applications

A. Endangered Species

Applicant: Zoological Society of Cincinnati/Cincinnati Zoo & Botanical Garden, Cincinnati, OH; PRT-53920B

The applicant requests a permit to export one male captive born Sumatran rhinoceros (Dicerorhinus sumatrensis) to Yayasan Badak Indonesia (YABI), West Java, Indonesia, for the purpose of enhancement of the survival of the species through captive propagation.

Applicant: Mountain Gorilla Veterinary Project, Inc., Baltimore, MD; PRT-64246B

The applicant requests a permit to re-export biological samples obtained from salvaged wild specimens of Eastern gorilla (Gorilla beringei) to the United Kingdom for the purpose of scientific research.

Applicant: University of Tennessee, Knoxville, TN; PRT-63281B

The applicant requests a permit to export biological samples obtained from captive-bred tigers (Panthera tigris) to the United Kingdom for the purpose of scientific research.

Applicant: Festival Fun Parks, LLC, Miami, FL; PRT-66062B

The applicant requests a permit for interstate transport of 10 jackass penguins (Spheniscus demersus) from the Six Flags Discovery Kingdom, Vallejo, California, to Miami Seaquarium, Miami, Florida, for the purpose of enhancement of the survival of the species. This notification covers activities to be conducted by the applicant over a 5-year period.

Applicant: Crocodile Encounter, Angleton, TX; PRT-54414B

The applicant requests a captive-bred wildlife registration under 50 CFR 17.21(g) for the following species to enhance species propagation or survival: Nile Crocodile (Crocodylus niloticus), Siamese crocodile (C. siamensis), Saltwater crocodile (C. porosus), Chinese alligator (Alligator sinensis), and common caiman (Caiman crocodylus). This notification covers activities to be conducted by the applicant over a 5-year period.

Applicant: Tomich, Ian, Phoenix, AZ; PRT-59955B

The applicant requests a captive-bred wildlife registration under 50 CFR 17.21(g) for the following species to enhance species propagation or survival: Radiated tortoise (Astrochelys radiata). This notification covers activities to be conducted by the applicant over a 5-year period.

Applicant: James Gresham, Richmond, TX; PRT-73576B

The applicant requests a permit to import a sport-hunted trophy of one male bontebok (Damaliscus pygargus pygargus) culled from a captive herd maintained under the management program of the Republic of South Africa, for the purpose of enhancement of the survival of the species.

Monica Thomas,
Management Analyst, Branch of Permits, Division of Management Authority.

[FR Doc. 2015-21889 Filed 9-2-15; 8:45 am]

BILLING CODE 4310-55-P